DEPARTMENT OF HOMELAND SECURITY

U.S. Citizenship and Immigration Services

Agency Information Collection Activities; New Information Collection; Comment Request

ACTION: 30-Day Notice of Information Collection Under Review: E-Verify 2012 Web User Survey; OMB Control No. 1615-New.

The Department of Homeland Security, U.S. Citizenship and Immigration Services (USCIS) will be submitting the following information collection request to the Office of Management and Budget (OMB) for review and clearance in accordance with the Paperwork Reduction Act of 1995. The information collection notice was previously published in the Federal Register on January 18, 2012, at 77 FR 2559, allowing for a 60-day public comment period. USCIS did not receive any comments in connection with the 60-day notice.

The purpose of this notice is to allow an additional 30 days for public comments. Comments are encouraged and will be accepted until May 3, 2012. This process is conducted in accordance with 5 CFR 1320.10.

Written comments and/or suggestions regarding the item(s) contained in this notice, especially regarding the estimated public burden and associated response time, should be directed to the Department of Homeland Security (DHS), and to the Office of Management and Budget (OMB) USCIS Desk Officer. Comments may be submitted to: USCIS, Chief, Regulatory Coordination Division, Office of Policy and Strategy, 20 Massachusetts Avenue, Washington, DC 20529-2020. Comments may also be submitted to DHS via facsimile to 202-272-0997 or via email at uscisfr.comment@dhs.gov, and to the OMB USCIS Desk Officer via facsimile at 202-395-5806 or via email at oira_submission@omb.eop.gov. When submitting comments by email please make sure to add E-Verify 2012 Web User Survey in the subject box. Written comments and suggestions from the public and affected agencies should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: New information collection.

(2) Title of the Form/Collection: E-Verify 2012 Web User Survey.

(3) Agency form number, if any, and the applicable component of the Department of Homeland Security sponsoring the collection: No Form Number; U.S. Citizenship and Immigration Services (USCIS).

(4) Affected public who will be asked or required to respond, as well as a brief abstract: Primary: Individuals or households. E-Verify 2012 Web User Survey is necessary in order for U.S. Citizenship and Immigration Services (USCIS) to obtain data from E-Verify employers in anticipation of the enactment of mandatory state and/or national eligibility verification programs for all or a substantial number of employers.

(5) An estimate of the total number of respondents and the amount of time estimated for an average respondent to respond: 2,800 responses at 30 minutes (.50 hours) per response.

(6) An estimate of the total public burden (in hours) associated with the collection: 1,400 annual burden hours.

If you need a copy of the information collection instrument, please visit the Web site at: http://www.regulations.gov.

We may also be contacted at: USCIS, Regulatory Coordination Division, Office of Policy and Strategy, 20 Massachusetts Avenue NW., Washington, DC 20529-2020; Telephone 202-272-8377.

Dated: March 28, 2012.
Laura Dawkins,
Acting Chief, Regulatory Coordination Division, Office of Policy and Strategy, U.S. Citizenship and Immigration Services, Department of Homeland Security.

[FR Doc. 2012-7907 Filed 4-2-12; 8:45 am]

BILLING CODE 9111-97-P